DEPARTMENT OF ENERGY

Federal Energy Regulatory Commission

[Docket No. CP07-430-000]

Kinder Morgan Interstate Gas Transmission LLC; Notice of Filing

August 14, 2007.

Take notice that on August 6, 2007, Kinder Morgan Interstate Gas Transmission LLC (Kinder Morgan) whose mailing address is P.O. Box 281304, Lakewood, Colorado 80228-8304, filed an application, pursuant to section 7(c) of the Natural Gas Act (NGA), and Part 157 of the Federal Energy Regulatory Commission's Regulations, requesting a certificate of public convenience and necessity authorizing the construction and operation of certain facilities referred to as the Colorado Lateral Expansion Project located in Weld County, Colorado (Project). The facilities for the Project are designed to deliver up to 55,000 Dth per day. The application is on file with the Commission and open for public inspection. This filing is available for review at the Commission in the Public Reference Room or may be viewed on the Commission's Web site at http://www.ferc.gov using the “eLibrary” link. Enter the docket number excluding the last three digits in the docket number field to access the document. For assistance, please contact FERC Online Support at FERCOnlineSupport@ferc.gov or toll free at (866) 208-3676, or for TTY, contact (202) 502-8659.

The Project will comprise delivery meter stations and approximately 41.4 miles of 12-inch pipeline facilities extending from the Cheyenne to Greeley in Weld County, Colorado. The facilities are proposed in order to provide incremental firm transportation service to Atmos Energy Corporation (Atmos). Kinder Morgan has entered into a Precedent Agreement with Atmos for a primary term of ten years an initial volume of 47,000 Dth/day stepping-up to 55,000 Dth/day for years five through ten. The total estimated cost for the proposed facilities is $23,549,557.

Any questions regarding the application are to be directed to Skip George, Manager of Regulatory, Kinder Morgan Interstate Gas Transmission LLC, P.O. Box 281304, Lakewood, Colorado 80228-8304, phone (303) 914-4969.

Any person wishing to obtain legal status by becoming a party to the proceedings for this project should, on or before the below listed comment date, file with the Federal Energy Regulatory Commission, 888 First Street, NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

Motions to intervene, protests and comments may be filed electronically via the Internet in lieu of paper, see, 18 CFR 385.2001 (a)(1)(iii) and the instructions on the Commission's web site under the “e-Filing” link. The Commission strongly encourages electronic filings.

Comment Date: September 4, 2007.

Kimberly D. Bose,
Secretary.

[FR Doc. E7-16390 Filed 8-20-07; 8:45 am]

BILLING CODE 6717-01-P